SOCIAL SECURITY ADMINISTRATION

Agency Information Collection Activities: Proposed Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the SSA Reports Clearance Officer. The information can be mailed and/or faxed to the individuals at the addresses and fax numbers listed below:

(SSA), Social Security Administration, DCFAM, Attn: Reports Clearance Officer, 1333 Annex Building, 6401 Security Blvd., Baltimore, MD 21235. Fax: 410-965-6400.

The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Withdrawal of Application—20 CFR 404.640—0960-0015. The filing of an application for Social Security benefits may be to the claimant's disadvantage. The withdrawal procedure provides a method for overcoming and nullifying this disadvantage. The SSA-521 collects the required information to effectuate withdrawal from benefits or of an application for benefits. The respondents are applicants or claimants for Social Security benefits.

Type of Request: Extension of an OMB-approved information collection.

Number of Respondents: 100,000.

Frequency of Response: 1.

Average Burden Per Response: 5 minutes.

Estimated Annual Burden: 8,333 hours.

2. Statement of Claimant or Other Person—20 CFR 404.702, 416.570—0960-0045. The SSA-795 is used to obtain information from claimants or other persons having knowledge of facts in connection with claims for Social Security or Supplemental Security Income (SSI) benefits when there is no standard form which collects the needed information. The information is used by SSA to process claims for benefits or for ongoing issues related to the above programs. The respondents are applicants/beneficiaries for Social Security benefits or SSI payments, or others who are in a position to provide information pertinent to the claim(s).

Type of Request: Extension of an OMB-approved information collection.

Number of Respondents: 305,500.

Frequency of Response: 1.

Average Burden Per Response: 15 minutes.

Estimated Annual Burden: 76,375 hours.

3. Application for Search of Census Records for Proof of Age—20 CFR 404.716—0960-0097. The information collected on Form SSA-1535-U3 is needed to provide sufficient identifying information to allow an accurate search of census records to establish proof of age for an individual applying for Social Security benefits. It is used for individuals who must establish proof of age as a factor of entitlement, and cannot otherwise document their date of birth. The respondents are applicants for Social Security benefits who must establish their date of birth as a factor of entitlement.

Type of Request: Extension of an OMB-approved information collection.

Number of Respondents: 18,030.

Frequency of Response: 1.

Average Burden Per Response: 12 minutes.

Estimated Annual Burden: 3,606 hours.

4. Claim for Amounts Due in the Case of a Deceased Beneficiary—20 CFR 404.503(b)—0960-0101. Completion of the SSA-1724 to assure proper payment of an underpayment due to a deceased beneficiary is required when there is insufficient information in the file to identify the person(s) entitled to the underpayment, or that person's address. Generally, the SSA-1724 is used in cases where a surviving widow(er) is not already entitled to a monthly benefit on the same earnings record, or is not filing for a lump-sum death payment as a living-with spouse. The respondents are applicants for underpayments in cases of deceased beneficiaries.

Type of Request: Revision of an OMB-approved information collection.

Number of Respondents: 300,000.

Frequency of Response: 1.

Average Burden Per Response: 10 minutes.

Estimated Annual Burden: 50,000 hours.

5. Statement of Care and Responsibility for Beneficiary—20 CFR 404.2020, 404.2025, 408.620, 408.625, 416.620, 416.625—0960-0109. Form SSA-788 is used to obtain information from the beneficiary's custodian about the representative payee applicant's concern and responsibility for the beneficiary. The respondents are individuals who have custody of the beneficiary where someone else has filed to be the beneficiary's representative payee.

Type of Request: Extension of an OMB-approved information collection.

Number of Respondents: 130,000.

Frequency of Response: 1.

Average Burden Per Response: 10 minutes.

Estimated Annual Burden: 21,667 hours.

6. Self-Employment/Corporate Officer Questionnaire—20 CFR 404.435(e), 404.446—0960-0487. Form SSA-4184 is used to develop earnings and corroborate the claimant's allegations of retirement when the claimant is self-employed or a corporate officer. The information collected is used to determine the benefit amount. The respondents are self-employed individuals or corporate officers who apply for retirement or survivors' insurance benefits.

Type of Request: Extension of an OMB-approved information collection.

Number of Respondents: 50,000.

Frequency of Response: 1.

Average Burden Per Response: 20 minutes.

Estimated Annual Burden: 16,667 hours.

7. Application for Special Benefits for World War II Veterans—20 CFR 408, Subparts B, C and D—0960-0615. Title VIII of the Social Security Act (Special Benefits for Certain World War II Veterans) allows for the payment of a monthly benefit to a qualified World War II veteran who resides outside the United States. The regulations set out the requirements an individual must meet in order to qualify for and become entitled to Special Veterans Benefits (SVB). SSA-2000-F6 is the application used to elicit the information necessary to determine entitlement to SVB. The respondents are individuals who are applying for SVB under Title VIII of the Social Security Act.

Type of Request: Revision of an OMB-approved information collection.

Section No. | Number of respondents | Frequency of response | Average burden per response (minutes) | Estimated annual hour burden
§ 408.202(d); § 408.210; § 408.230(a); § 408.305; §§ 408.310-.315 | 325 | 1 | 20 | 108
§ 408.232(a) | 5 | 1 | 15 | 1.25
§ 408.320 | 5 | 1 | 15 | 1.25
§ 408.340 | 5 | 1 | 15 | 1.25
§ 408.345 | 2 | 1 | 15 | .50
§ 408.351(d) & (f) | 2 | 1 | 30 | 1.00
§ 408.355(a) | 5 | 1 | 15 | 1.25
§ 408.360(a) | 2 | 1 | 15 | .50
§ 408.404(c) | 20 | 1 | 15 | 5.00
§§ 408.410-412 | 20 | 1 | 15 | 5.00
§ 408.420(a), (b) | 230 | 1 | 15 | 58.00
§§ 408.430 & .432 | 215 | 1 | 30 | 108.00
§ 408.435(a), (b), (c) | 230 | 1 | 15 | 58.00
§ 408.437(b), (c), (d) | 20 | 1 | 30 | 10.00
Totals | 1,086 |  |  | 359

Estimated Annual Burden: 359 hours.

8. Prohibition of Payment of SSI Benefits to Fugitive Felons and Parole/Probation Violators—20 CFR 416.708(o)—0960-0617. Section 1611(e)(4) of the Social Security Act precludes eligibility for SSI benefits for certain fugitives and probation/parole violators. Regulations at 20 CFR 416.708(o) require that an individual report to SSA that he or she is fleeing to avoid prosecution for a crime, fleeing to avoid custody or confinement after conviction of a crime, or violating a condition of probation or parole. The respondents are SSI applicants/recipients or representative payees of SSI recipients who are reporting that a recipient is a fugitive felon or probation/parole violator.

Type of Request: Extension of an OMB-approved information collection.

Number of Respondents: 1,000.

Frequency of Response: 1.

Average Burden Per Response: 1 minute.

Estimated Annual Burden: 17 hours.

9. Application for SSA Employee Testimony—20 CFR 403.100-155—0960-0619. SSA's regulations at 20 CFR 403.100-155 establish policies and procedures whereby an individual, organization, or governmental entity may request official Agency information, records, or testimony of an agency employee in a legal proceeding to which the agency is not a party. The request, which must be in writing to the Commissioner, must fully set out the nature and relevance of the sought testimony. Respondents are individuals or entities who request testimony from SSA employees in a legal proceeding.

Type of Request: Extension of an OMB-approved information collection.

Number of Respondents: 100.

Frequency of Response: 1.

Average Burden Per Response: 60 minutes.

Estimated Annual Burden: 100 hours.

10. Representative Payee Report-Special Veterans Benefits—20 CFR 408.665—0960-0621. Title VIII allows the payment of monthly benefits by the Commissioner of Social Security to qualified World War II veterans who reside outside the U.S. A representative payee may be appointed to receive and manage the monthly payment for the beneficiary's use and benefit. The SSA-2001-F6 is completed by the payee to determine if he has used the benefits properly and continues to demonstrate strong concern for the beneficiary. Respondents are persons or organizations who act on behalf of beneficiaries receiving Special Veterans Benefits.

Type of Request: Revision of an OMB-approved information collection.

Number of Respondents: 100.

Frequency of Response: 1.

Average Burden Per Response: 10 minutes.

Estimated Annual Burden: 17 hours.

Dated: March 27, 2006.
Elizabeth A. Davidson,
Reports Clearance Officer, Social Security Administration.

[FR Doc. E6-4740 Filed 3-31-06; 8:45 am]

BILLING CODE 4191-02-P